DEPARTMENT OF AGRICULTURE

Rural Telephone Bank

Sunshine Act; Meetings

AGENCY: Rural Telephone Bank, USDA.

ACTION: Staff Briefing for the Board of Directors.

Time and Date: 2 p.m., Wednesday, February 22, 2006.

Place: Conference Room 108-A, Jamie L. Whitten Federal Building, U.S. Department of Agriculture, 12th & Jefferson Drive, SW., Washington, DC.

Status: Open.

Matters to be Discussed:

1. Progress of dissolution of the Bank.

2. Administrative and other issues.

ACTION: Board of Directors Meeting.

Time and Date: 9 a.m., Thursday, February 23, 2006.

Place: Conference Room 108-A, Jamie L. Whitten Federal Building, U.S. Department of Agriculture, 12th & Jefferson Drive, SW., Washington, DC.

Status: Open.

Matters to be Considered: The following matters have been placed on the agenda for the Board of Directors meeting:

1. Call to order.

2. Action on Minutes of the November 3, 2005, board meeting.

3. Secretary's Report.

4. Treasurer's Report.

5. Update on dissolution of the Bank.

6. Adjournment.

Contact Person for More Information: Jonathan Claffey, Acting Assistant Governor, Rural Telephone Bank, (202) 720-9554.

Dated: February 7, 2006.
James M. Andrew,
Governor, Rural Telephone Bank.

[FR Doc. 06-1320 Filed 2-8-06; 3:14 pm]

BILLING CODE 3410-15-P